DEPARTMENT OF THE INTERIOR

National Park Service

Policy on Special Park Uses, Draft Directors Order 53

AGENCY: National Park Service, Interior.

ACTION: Notice of Availability and Request for Comments.

SUMMARY: The National Park Service (NPS) is requesting comments on its revision of its policy governing the issuance of permits for special park uses. This policy will apply to all units of the national park system, and will replace the previous policy which was issued in April 2000.

DATES: Comments must be received by July 22, 2009.

ADDRESSES: The Draft Director's Order 53 is available on the internet at http://www.nps.gov/policy/DO-53draft.htm. Requests for printed copies and written comments should be sent to Lee Dickinson, NPS Special Park Program Manager, 1849 C Street, NW. (2460), Washington, DC 20240 or to the internet address: lee_dickinson@nps.gov. Please include “Comments on Director's Order 53” in the e-mail subject line.

FOR FURTHER INFORMATION CONTACT: Lee Dickinson at (202) 513-7092.

SUPPLEMENTARY INFORMATION: Director's Order 53 (DO-53) is a policy intended to govern the internal management of the NPS. It will cover topic associated with the special park uses program such as legal authorities for permit issuance, permitting considerations, permit provisions, and the various categories of special park uses. Categories of use will include, but be limited to special events, first amendment demonstrations, commercial filming and still photography, agriculture, and grazing. This new revision of Director's Order 53 will replace the existing one, which was published in April 2000. The reference manual (RM-53) will be revised to outline procedures for implementation of the new version of DO-53.

Commenters should be aware that we may make their entire comment—including personal identifying information—publicly available at any time. While you can ask us to withhold your personal identifying information from public review, we cannot guarantee that we will be able to do so. We will always make submissions from organizations or businesses and from individuals identifying themselves as representatives or officials of organizations or businesses available in their entirety.

Karen Taylor-Goodrich,
Associate Director, Visitor and Resource Protection.

[FR Doc. E9-14588 Filed 6-19-09; 8:45 am]

BILLING CODE 4310-70-P